DEPARTMENT OF HEALTH AND HUMAN SERVICES

Meeting of the Advisory Group on Prevention, Health Promotion, and Integrative and Public Health

AGENCY: Office of the Surgeon General of the United States Public Health Service, Office of the Assistant Secretary for Health, Office of the Secretary, Department of Health and Human Services.

ACTION: Notice.

SUMMARY: In accordance with Section 10(a) of the Federal Advisory Committee Act, Public Law 92-463, as amended (5 U.S.C. App.), notice is hereby given that a meeting is scheduled to be held for the Advisory Group on Prevention, Health Promotion, and Integrative and Public Health (the “Advisory Group”). The meeting will be open to the public. Information about the Advisory Group and the agenda for this meeting can be obtained by accessing the following Web site: http://www.surgeongeneral.gov/initiatives/prevention/advisorygrp/index.html.

DATES: The meeting will be held on July 15, 2013 from 12-2 p.m.

ADDRESSES: The meeting will be held via teleconference. For conference information and to register for the meeting, please send an email to prevention.council@hhs.gov.

FOR FURTHER INFORMATION CONTACT: Office of the Surgeon General, 200 Independence Ave. SW.; Hubert H. Humphrey Building, Room 701H; Washington, DC 20201; 202-205-9517; prevention.council@hhs.gov.

SUPPLEMENTARY INFORMATION: The Advisory Group is a non-discretionary Federal advisory committee that was initially established under Executive Order 13544, dated June 1, 2012, to comply with the statutes under Section 4001 of the Patient Protection and Affordable Care Act, Public Law 111-148. The Advisory Group was established to assist in carrying out the mission of the National Prevention, Health Promotion, and Public Health Council (the Council). The Advisory Group provides recommendations and advice to the Council. Under Executive Order 13591, dated November 23, 2011, operation of the Advisory Group was terminated on September 30, 2012. On December 7, 2012, President Obama issued Executive Order 13631 to re-establish the Advisory Group. The Advisory Group is authorized to operate until September 30, 2013.

It is authorized for the Advisory Group to consist of not more than 25 non-federal members. The Advisory Group currently has 22 members who were appointed by the President. The membership includes a diverse group of licensed health professionals, including integrative health practitioners who have expertise in (1) worksite health promotion; (2) community services, including community health centers; (3) preventive medicine; (4) health coaching; (5) public health education; (6) geriatrics; and (7) rehabilitation medicine.

This will be the eighth meeting of the Advisory Group. Topics for discussion during this meeting include the status of the Advisory Group's third set of recommendations, updates from the working groups, and the draft agenda for the next Advisory Group meeting, which is planned to be held on September 26-27, 2013.

Members of the public who wish to attend must register by 12:00 p.m. EST on July 10, 2013. Individuals should register for public attendance at prevention.council@hhs.gov by providing your full name and affiliation. The public will have the opportunity to provide comments to the Advisory Group during this meeting; public comment will be limited to 3 minutes per speaker. Registration through the designated contact for the public comment session is also required.

Dated: June 20, 2013.
Corinne M. Graffunder,
Designated Federal Officer, Advisory Group on Prevention, Health Promotion, and Integrative and Public Health Office of the Surgeon General.

[FR Doc. 2013-15324 Filed 6-25-13; 8:45 am]

BILLING CODE 4163-18-P